DEPARTMENT OF ENERGY

Federal Energy Regulatory Commission

[Docket Nos. EC05-136-000, et al.]

EBG Holdings, LLC and EBG Custodial Company, LLC; Electric Rate and Corporate Filings

September 16, 2005.

The following filings have been made with the Commission. The filings are listed in ascending order within each docket classification.

1. EBG Holdings, LLC and EBG Custodial Company LLC

[Docket No. EC05-136-000]

On September 9, 2005, EBG Holdings, LLC (EBG) filed an application pursuant to section 203 of the Federal Power Act requesting authorization for a change in ownership structure involving future EBG's upstream owners to allow a portion of their EBG membership interests to be held by a single Delaware limited liability company, currently denoted as EBG Custodial Company LLC, that will elect to be treated as a “C corporation” for U.S. Federal tax purposes (Custodial Company). EBG states that the membership interests or units of the Custodial Company will in turn be owned by various yet-to-be-identified foreign financial institutions, banks, institutional investors, investment companies or related entities that are not primarily engaged in energy-related business activities in the U.S., which desire to hold their interests in EBG indirectly through the Custodial Company because of the tax consequences associated with that structure.

Comment Date: 5 p.m. Eastern Time on September 30, 2005.

2. Michigan Electric Transmission Co., LLC and Wolverine Power Supply Cooperative, Inc.

[Docket Nos. EC05-137-000 and ER05-1472-000]

Take notice that on September 12, 2005, Michigan Electric Transmission Company, LLC (METC) and Wolverine Power Supply Cooperative, Inc., (Wolverine) submitted an application under sections 203 and 205 of the Federal Power Act, 16 U.S.C. 824b and 824d and parts 33 and 35 of the Commission's regulations, 18 CFR parts 33 and 35, for approval to transfer undivided ownership interests in certain of Wolverine's transmission facilities to METC and certain related easements, and for approval or acceptance of a new Redwood Interconnection Facilities Agreement to reflect the transfer of facilities.

Comment Date: 5 p.m. Eastern Time on October 3, 2005.

3. Ontelaunee Power Operating Company, LLC

[Docket No. EG05-100-000]

Take notice that on September 9, 2005, Ontelaunee Power Operating Company, LLC (Applicant) filed with the Commission an application for determination of exempt wholesale generator status pursuant to part 365 of the Commission's regulations.

Applicant states that it is a Delaware limited liability company, proposes to own and operate an approximately 584 megawatt natural gas-fired electric generating facility located in Ontelaunee, Pennsylvania. Applicant further states that copies of the application were served upon the United States Securities and Exchange Commission and Pennsylvania Public Utility Commission.

Comment Date: 5 p.m. Eastern Time on September 30, 2005.

4. Carolina Power & Light Company and Florida Power Corporation

[Docket Nos. EL05-77-000, ER97-2846-005, and ER99-2311-006]

Take notice that on September 6, 2005, Progress Energy, Inc. on behalf of its public utility affiliates, Carolina Power & Light Company, and Florida Power Corporation tendered for filing additional information requested by the Commission in its August 5, 2005 letter.

Comment Date: 5 p.m. Eastern Time on September 27, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5236 Filed 9-27-05; 8:45 am]

BILLING CODE 6717-01-P